DEPARTMENT OF HOMELAND SECURITY

8 CFR Part 248

Change of Nonimmigrant Classification

CFR Correction

In Title 8 of the Code of Federal Regulations, revised as of January 1, 2015, on page 655, in § 248.1, in paragraph (c)(1), add the phrase “USCIS will” at the beginning of the second sentence.

[FR Doc. 2015-32116 Filed 12-21-15; 8:45 am]

BILLING CODE 1505-01-D